DEPARTMENT OF TRANSPORTATION

Coast Guard

33 CFR Part 165

[COTP Southeast Alaska; 01-002]

RIN 2115-AA97

Safety Zone; Crescent Harbor, Sitka, AK

AGENCY: Coast Guard, DOT.

ACTION: Final rule.

SUMMARY: The Coast Guard has received an application to remove the annual 4th of July Safety Zone in Sitka, AK. The current Safety Zone in 33 CFR 165.1707, an established 100 yd radius safety zone along the navigable waters of Crescent Harbor, Sitka, Alaska is no longer necessary as this location is no longer utilized for conducting fireworks displays. This action will remove the annual 4th of July safety zone in 33 CFR 165.1707. The Coast Guard Marine Safety Detachment Sitka has monitored the 4th of July maritime vessel traffic for the last two years, and has determined that a safety zone is no longer required.

DATES: This rule becomes effective April 19, 2001.

ADDRESSES: Documents as indicated in this preamble are available for inspection or copying at U.S. Coast Guard, Marine Safety Detachment Sitka, 329 Harbor Drive, Room 202, Sitka, Alaska between 8 a.m. and 3 p.m., Monday through Friday, except Federal holidays. The telephone number is (907) 966-5454.

FOR FURTHER INFORMATION CONTACT: Chief Warrant Officer Don Pack, Supervisor, U.S. Coast Guard Marine Safety Detachment Sitka, (907) 966-5454.

SUPPLEMENTARY INFORMATION:

Regulatory History

We did not publish a notice of proposed rulemaking (NPRM) for this regulation. Under 5 U.S.C. 553(b)(B), the Coast Guard finds that good cause exists for not publishing an NPRM. The 4th of July fireworks display is no longer being conducted in Crescent Harbor. The fireworks displays are conducted from a ramp on the Northeast shoreline on Japonski Island, which offer a better spectator view with less maritime vessel traffic. Because the Safety Zone was originally created to protect vessels and persons from the specific harm of the fireworks display that was launched in Crescent Harbor from a barge, the cessation of that display makes it unnecessary to continue the Safety Zone. For this reason, comment on the removal of the Safety Zone is unnecessary, as well as impracticable.

Background and Purpose

Each year on or about the 3rd of July, fireworks display activities are conducted over the navigable waters of Sitka Channel, Sitka, AK. In previous years, this display was launched from a barge, which was located in Crescent Harbor, Sitka, Alaska. The sponsor has requested to change this location and will now conduct this 1-hour activity on the shoreline ramp on the northeast side of Japonski Island, Sitka, AK.

This final rule will remove the annual safety zone in Crescent Harbor associated with the fireworks display, as it is no longer necessary. The sponsor now uses a shoreline ramp on the northeast side of Japonski Island, thus greatly reducing the hazard to vessels and individuals located in the area previously designated as a safety zone.

Regulatory Evaluation

This rule is not a “significant regulatory action” under section 3(f) of the Executive Order 12866 and does not require an assessment of potential costs and benefits under sections 6(a)(3) of that Order. The Office of Management and Budget has not reviewed it under that Order. It is not “significant” under the regulatory policies and procedures of the Department of Transportation (DOT) (44 FR 11040; February 26, 1979). The Coast Guard expects the economic impact of this proposal to be so minimal that a full Regulatory Evaluation under paragraph 10(e) of the regulatory policies and procedures of DOT is unnecessary. This is because lifting the safety zone will allow greater access and mobility to vessels located within Crescent Harbor.

Small Entities

Under the Regulatory Flexibility Act (5 U.S.C. 601-612), we considered whether this rule will have a significant economic impact on a substantial number of small entities. The term “small entities” comprises small businesses, not-for-profit organizations that are independently owned and operated and are not dominant in their fields, and governmental jurisdictions with populations less than 50,000. Because the effects of this rule are positive, by allowing greater access and mobility to vessels within Crescent Harbor, the Coast Guard certifies under 5 U.S.C. 605(b) that this rule will not have a significant economic impact on a substantial number of small entities.

Assistance for Small Entities

Under section 213(a) of the Small Business Regulatory Enforcement Fairness Act of 1996 (Public Law 104-121), we offer to assist small entities in understanding the rule so that they can better evaluate its effects on them and participate in the rulemaking process. If your small business or organization is affected by this rule and you have questions concerning its provisions or options for compliance, please contact the office listed in ADDRESSES in this preamble.

Collection of Information

This rule calls for no new collection of information under the Paperwork Reduction Act of 1995 (44 U.S.C. 3501-3520).

Federalism

We have analyzed this rule under Executive Order 13132 and have determined that this rule does not have implications for federalism under that Order.

Consultation and Coordination with Indian Tribal Governments

This proposed rule will not have tribal implications; will not impose substantial direct compliance costs on Indian tribal governments; and will not preempt tribal law. Therefore, it is exempt from the consultation requirements of Executive Order 13175. If tribal implications are identified during the comment period we will undertake appropriate consultations with the affected Indian tribal officials.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Environment

The Coast Guard considered the environmental impact of this rule and concluded that, under figure 2-1, paragraph (34)(g), of Commandant Instruction M16475.1C, this rule is categorically excluded from further environmental documentation. A “Categorical Exclusion Determination” is available in the docket for inspection or copying where indicated under ADDRESSES.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

List of Subjects in 33 CFR Part 165

Harbors, Marine Safety, Navigation (water), Reporting and record keeping requirements, Security measures, Waterways.

For the reasons set out in the preamble, the Coast Guard is amending 33 CFR Part 165 as follows:

PART 165

1. The authority citation for Part 165 continues to read as follows:

Authority: 33 U.S.C. 1231: 50 U.S.C. 191; 33 CFR 1.05-1(g), 6.04-1, 6.04-6, and 160.5; 49 CFR 1.46.

§ 165.1707 [Removed]

2. Remove § 165.1707.

Dated: February 26, 2001.
R.C. Lorigan,
Captain, U.S. Coast Guard, Captain of the Port, Southeast Alaska.

[FR Doc. 01-6903 Filed 3-19-01; 8:45 am]

BILLING CODE 4910-15-P